DEPARTMENT OF LABOR

Employment and Training Administration

[TA-W-50,167]

Bike Athletic Company, a Division of Russell Corporation, Knoxville, TN; Amended Certification Regarding Eligibility To Apply for Worker Adjustment Assistance

In accordance with section 223 of the Trade Act of 1974 (19 U.S.C. 2273) the Department of Labor issued a Certification of Eligibility to Apply for Worker Adjustment Assistance on December 4, 2002, applicable to workers of Bike Athletic Company, Knoxville, Tennessee. The notice was published in the Federal Register on December 23, 2002 (67 FR 78256). The certification was amended January 14, 2003 to include all workers of the subject firm. The notice was published in the Federal Register on February 6, 2003 (68 FR 6213).

At the request of the State agency, the Department reviewed the certification for workers of the subject firm. The workers are engaged in the production of (cut fabric) men's and women's athletic team apparel. New information received from the State shows that Bike Athletic Company was purchased by Russell Corporation in February 2003 and became known as Bike Athletic Company, a division of Russell Corporation. Information also shows that workers separated from employment at Bike Athletic Company had their wages reported under a separate unemployment insurance (UI) tax account for Bike Athletic Company, a division of Russell Corporation.

Accordingly, the Department is amending the certification to properly reflect this matter.

The amended notice applicable to TA-W-50,167 is hereby issued as follows:

All workers of Bike Athletic Company, a Division of Russell Corporation, Knoxville, Tennessee who became totally or partially separated from employment on or after November 21, 2001, through December 4, 2004, are eligible to apply for adjustment assistance under section 223 of the Trade Act of 1974.

Signed at Washington, DC this 13th day of March, 2003.
Elliott S. Kushner,
Certifying Officer, Division of Trade Adjustment Assistance.

[FR Doc. 03-13821 Filed 6-2-03; 8:45 am]

BILLING CODE 4510-30-P